DEPARTMENT OF COMMERCE

International Trade Administration

[A-580-855]

Amended Final Determination of Sales at Less Than Fair Value: Diamond Sawblades and Parts Thereof From the Republic of Korea

AGENCY: Import Administration, International Trade Administration, Department of Commerce.

DATES: Effective Date: March 24, 2010.

FOR FURTHER INFORMATION CONTACT: David Layton or Brandon Farlander, Import Administration, International Trade Administration, U.S. Department of Commerce, 14th Street and Constitution Avenue, NW., Washington, DC 20230; telephone: (202) 482-0371 or (202) 482-0182, respectively.

SUPPLEMENTARY INFORMATION:

Amendment to Final Determination

In accordance with sections 735(a) and 777(i)(1) of the Tariff Act of 1930, as amended (the Act), on May 22, 2006, the Department of Commerce (“the Department”) published its notice of final determination of sales at less than fair value (“LTFV”) in the investigation of diamond sawblades and parts thereof (“DSB”) from the Republic of Korea (“Korea”). See Notice of Final Determination of Sales at Less Than Fair Value and Final Determination of Critical Circumstances: Diamond Sawblades and Parts Thereof from the Republic of Korea, 71 FR 29310 (May 22, 2006) (“Final Determination”). On May 24, 2006, we received allegations, timely filed pursuant to 19 CFR 351.224(c)(2), from Ehwa Diamond Industrial Co., Ltd. (“Ehwa”) and Shinhan Diamond Industrial Co., Ltd. (“Shinhan”) that the Department made ministerial errors with respect to its final determination dumping margin calculations.

A ministerial error, as defined in section 751(h) of the Act, includes “errors in addition, subtraction, or other arithmetic function, clerical errors resulting from inaccurate copying, duplication, or the like, and any other type of unintentional error which the (Secretary) considers ministerial.” See also 19 CFR 351.224(f). After analyzing Ehwa and Shinhan's submissions, we determined, in accordance with 19 CFR 351.224(e), that we inadvertently failed to grant Ehwa and Shinhan a constructed export price offset. Our correction of these errors results in revised margins for Ehwa and Shinhan. We have revised the calculation of the “All Others” rate accordingly.

The Department provides a detailed discussion of all ministerial errors alleged by Ehwa and Shinhan, as well as the Department's analysis in the June 28, 2006, memorandum from the team to Thomas F. Futtner, Acting Office Director, entitled, “Ministerial Error Allegations in the Final Determination of the Antidumping Duty Investigation on Diamond Sawblades and Parts Thereof from the Republic of Korea” (“June 28, 2006 Ministerial Errors Memo”).

During the original investigation, the U.S. International Trade Commission (“ITC”) published its final determination that an industry in the United States was not materially injured or threatened with material injury by reason of imports of DSB from the People's Republic of China (“PRC”) and Korea.¹ Therefore, with regard to DSB from Korea, the Department did not publish an amended final determination reflecting its ministerial error findings. Subsequently, the petitioners challenged the ITC's final negative injury determination, and on February 6, 2008, the U.S. Court of International Trade (“CIT”) remanded the determination to the ITC for reconsideration.² Upon remand, the ITC changed its determination and found that a U.S. industry is threatened with material injury by reason of imports of DSB from the PRC and Korea.³

¹ See Diamond Sawblades and Parts Thereof From China and Korea, 71 FR 39128 (July 11, 2006) (“ITC Final Determination”).

² See Diamond Sawblades Mfr's Coalition v. United States, No. 06-247, Slip Op. 2008-18 (CIT February 6, 2008).

³ See Diamond Sawblades and Parts Thereof from China and Korea: Investigation Nos. 731-TA-1092 and 1093 (Final)(Remand), USITC Pub. 4007 (May 2008).

On November 4, 2009, the Department published antidumping duty orders and ordered the collection of cash deposits on subject merchandise covered by the orders. See Diamond Sawblades and Parts Thereof From the People's Republic of China and the Republic of Korea: Antidumping Duty Orders, 74 FR 57145 (November 4, 2009) (“DSB Orders”). Because the Department had not yet published an amended final determination based on the recommendations of its June 28, 2006 Ministerial Errors Memo, the Department applied cash deposit rates from the Final Determination in the DSB Orders. The Department provides a complete description of the sequence of events leading up to the issuance of the orders in the DSB Orders with references provided for the relevant decisions and notices issued by the ITC, the Department, and the CIT.

In accordance with the Department's findings in the June 28, 2006 Ministerial Errors Memo and 19 CFR 351.224(e), we are amending the Final Determination. The revised weighted-average dumping margins are as follows:

Manufacturer/exporter | Final determination weighted average margin percentage | Amended weighted average margin percentage
Ehwa | 12.76 | 8.80
Shinhan | 26.55 | 16.88
Hyosung Diamond Industrial Co | 6.43 | 6.43
All Others | 16.39 | 11.10

Continuation of Suspension of Liquidation

In accordance with section 735(c)(1)(B) of the Act, we are directing U.S. Customs and Border Protection (“CBP”) to continue to suspend liquidation of all entries of DSB from Korea. CBP shall require a cash deposit equal to the estimated amount by which the normal value exceeds the U.S. price as indicated in the “amended weighted-average margin percentage” column in the chart above. These instructions suspending liquidation will remain in effect until further notice. We will issue separate instructions to CBP authorizing it to refund the antidumping duty deposits that Ehwa and Shinhan made in excess of the respective amended antidumping duty margins for these manufacturer/exporters since January 23, 2009, the effective date for suspension of liquidation under the DSB Orders. We will also issue instructions to CBP authorizing it to refund the antidumping duty deposits companies subject to the all-others rate made in excess of the amended All Others rate since January 23, 2009.

Critical Circumstances

In the Final Determination, the Department determined that critical circumstances existed with respect to Shinhan and the “All Others” rate. On July 11, 2006, the ITC published its final determination that an industry in the United States was not materially injured or threatened with material injury by reason of imports of DSB from the PRC and Korea.⁴ Pursuant to the ITC's original final determination, the Department instructed CBP to lift suspension of liquidation on all entries subject to the investigation. Accordingly, all entries of subject merchandise, including those entered 90 days before the imposition of provisional measures, were liquidated and the issue of critical circumstances is moot.

⁴ See ITC Final Determination.

This amended determination is issued and published pursuant to section 735(d) of the Act.

Dated: March 18, 2010.
Ronald K. Lorentzen,
Deputy Assistant Secretary for Import Administration.

[FR Doc. 2010-6530 Filed 3-23-10; 8:45 am]

BILLING CODE 3510-DS-P